DEPARTMENT OF COMMERCE

National Oceanic and Atmospheric Administration

RIN 0648-XG899

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Northeast Fisheries Science Center contains all of the required information and warrants further consideration. This Exempted Fishing Permit would exempt participating vessels from minimum fish size restrictions and fish possession limits. Regulations under the Magnuson-Stevens Fishery Conservation and Management Act require publication of this notice to provide interested parties the opportunity to comment on Exempted Fishing Permit applications.

DATES: Comments must be received on or before April 15, 2019.

ADDRESSES: You may submit written comments by either of the following methods:

• Email: nmfs.gar.efp@noaa.gov. Include in the subject line “Comments on NEFSC Study Fleet EFP.”

• Mail: Michael Pentony, Regional Administrator, NMFS, Greater Atlantic Regional Fisheries Office, 55 Great Republic Drive, Gloucester, MA 01930. Mark the outside of the envelope “Comments on NEFSC Study Fleet EFP.”

FOR FURTHER INFORMATION CONTACT: Spencer Talmage, Fishery Management Specialist, 978-281-9232, Spencer.Talmage@noaa.gov.

SUPPLEMENTARY INFORMATION: The Northeast Fisheries Science Center submitted a complete application for an Exempted Fishing Permit (EFP) on February 26, 2019, for the 2019 Study Fleet Program. The EFP would exempt 18 commercial fishing vessels from the minimum size and possession limits for species of interest, as well as allow temporary retention of species that would be discarded.

The Center established the Study Fleet Program in 2002 to more fully characterize commercial fishing operations and provide sampling opportunities to augment NMFS's data collection programs. Partnership with the commercial fishing industry allows the Center to provide samples for stock assessment and fish biology research when traditional sampling sources might otherwise be unavailable. Table 1 includes all of the regulations specified at 50 CFR part 648 that participating vessels would be exempt from for at-sea sampling or when retaining and landing fish for research purposes. The exemptions listed in Table 1 are necessary for contracted vessels to acquire the biological samples needed to meet Center research objectives.

Table 1—Specific Regulations Covered by the Proposed Exempted Fishing Permit
| Study fleet program EFP
Number of Vessels | 18.
Exempted regulations in 50 CFR part 648 | Size limits: § 648.83 Northeast multispecies minimum sizes.
| Possession restrictions:
| § 648.86(a) Haddock.
| § 648.86(b) Atlantic cod.
| § 648.86(d) Small-mesh multispecies.
| § 648.86(g) Yellowtail flounder.
| § 648.86(o) Possession limits implemented by Regional Administrator.

Any fish retained under the EFP would be delivered to Center staff upon landing. Additionally, the Center would issue a formal Biological Sampling Request to the vessel to retain fish in excess of possession limits or below the minimum size limit. This would ensure that the landed fish do not exceed any collection needs of the Study Fleet Program, as detailed below in Table 2.

All catch would be attributed to the appropriate commercial fishing quota. For a vessel fishing on a groundfish sector trip, all catch of groundfish stocks allocated to sectors would be deducted from the vessel's sector's Annual Catch Entitlement (ACE). Once the ACE for a stock has been reached in a sector, vessels would no longer be allowed to fish in that stock area unless the sector acquired additional ACE for the stock in question. For common pool vessels, all groundfish catch would be counted toward the appropriate trimester total allowable catch (TAC). Common pool vessels would be exempt from possession and trip limits on EFP trips when directed for sampling by the Center, but would still be subject to trimester TAC closures.

Table 2—Study Fleet Program's Biological Sample Collection Needs
Species | Stock area * | Gear types # | Collection frequency | Individual fish per collection period | Maximum weight allowed per trip | Maximum allowance
Atlantic cod | GOM, GB | OTF, DRS | Monthly (Dec-Mar) | 20 per month (10 from each stock area) | 175 lb (79 kg) | 2,800 lb (1,270 kg).
Haddock | GOM, GB | OTF, DRS | Monthly (Dec-Mar) | 80 per week (40 from each stock area) | 300 lb (136 kg) | 4,800 lb (2,177 kg).
Acadian Redfish | GOM | OTF | Monthly (Mar-July) | 50 per month | 150 lb (68 kg) | 750 lb (340 kg).
Yellowtail Flounder | GOM, GB, SNE | OTF, DRS | Monthly (Jan-Apr) | 120 per week (40 from each stock area) | 90 lb (41 kg) | 2,160 lb (980 kg).
Winter Flounder | GOM, GB, SNE | OTF, DRS | Monthly (Jan-Apr) | 120 per week (40 from each stock area) | 160 lb (73 kg) | 3,840 lb (1742 kg).
Longfin squid | Any Area | OTM, OTF | Quarterly (4 separate months) | 15 per quarter | 5 lb (2 kg) | 20 lb (9 kg).
Longfin squid | Any Area | OTM, OTF | Monthly | 100 per month | 75 lb (34 kg) | 900 lb (408 kg).
Atlantic herring | Any Area | OTM, OTF, PUR | Monthly | 100 per month | 100 lb (45 kg) | 1,200 lb (544 kg).
River herring/shad | Any Area | OTM, OTF, PUR | Monthly | 100 per month of each species | 100 lb (45 kg) of each species | 1,200 lb (544 kg) of ea. species.
round herring | Any Area | OTM, OTF, PUR | Monthly | 100 per month | 100 lb (45 kg) | 1,200 lb (544 kg).
Silver hake | Any Area | OTM, OTF, PUR | Monthly | 100 per month | 260 lb (118 kg) | 3,120 lb (1415 kg).
Atlantic mackerel | Any Area | OTM, OTF, PUR | Monthly | 100 per month | 260 lb (118 kg) | 3,120 lb (1415 kg).
Shortfin squid | Any Area | OTM, OTF | Monthly | 100 per month | 75 lb (34 kg) | 900 lb (408 kg).
Sand lance | Any Area | OTM, OTF, PUR | Monthly | 100 per month | 25 lb (11 kg) | 300 lb (136 kg).
Butterfish | SNE, MA | OTM | Monthly | 150 per month | 75 lb (34 kg) | 900 lb (408 kg).
* Stock area abbreviations: Gulf of Maine (GOM), Georges Bank (GB), Southern New England (SNE).
# Gear abbreviations: Otter trawl (OTF), bottom longline (LLB), sink gillnet (GNS), sea scallop dredge (DRS), fish pot (PTF), hand lines, auto jig (HND), purse seine (PUR), otter trawl midwater (OTM), pair trawl midwater (PTM).

If approved, the Center may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: March 25, 2019.
Jennifer M. Wallace,
Acting Director, Office of Sustainable Fisheries, National Marine Fisheries Service.

[FR Doc. 2019-06105 Filed 3-28-19; 8:45 am]

BILLING CODE 3510-22-P